DEPARTMENT OF HOMELAND SECURITY

[Docket No. DHS-2015-0028]

Gratuitous Services Agreement and Volunteer Release and Hold Harmless

AGENCY: National Protection and Programs Directorate, DHS.

ACTION: 60-Day Notice and request for comments; new information collection request: 1670-NEW.

SUMMARY: The Department of Homeland Security (DHS), National Protection and Programs Directorate (NPPD), Office of Infrastructure Protection (IP), Protective Security Coordination Division (PSCD), Office for Bombing Prevention (OBP), will submit the following Information Collection Request (ICR) to the Office of Management and Budget (OMB) for review and clearance in accordance with the Paperwork Reduction Act of 1995 (Pub. L. 104-13, 44 U.S.C. chapter 35).

DATES: Comments are encouraged and will be accepted until October 19, 2015. This process is conducted in accordance with 5 CFR 1320.1.

ADDRESSES: Written comments and questions about this Information Collection Request should be forwarded to DHS/NPPD/IP/PSCD/OBP, 245 Murray Lane SW., Mail Stop 0612, Washington, DC 20528-0612. Emailed requests should go to OBP@dhs.gov. Written comments should reach the contact person listed no later than October 19, 2015. Comments must be identified by “DHS-2015-0028”and may be submitted by one of the following methods:

• Federal eRulemaking Portal: http://www.regulations.gov .

• Email: Include the docket number in the subject line of the message.

Instructions: All submissions received must include the words “Department of Homeland Security” and the docket number for this action. Comments received will be posted without alteration at http://www.regulations.gov, including any personal information provided.

SUPPLEMENTARY INFORMATION: The Gratuitous Services Agreement and Volunteer Release and Hold Harmless form will be provided to participants of OBP trainings. The participants will be emergency response personnel training with DHS OBP personnel. The collection of this information is necessary in the case that an individual who acts as a volunteer role player in support of official OBP training sustains an injury or death during the performance of his or her supporting role. If legal action is taken, this information can serve as a “hold harmless” statement/agreement by the Government. The purpose of the Gratuitous Services Agreement is to establish that no monies, favors or other compensation will be given or received by either parties involved.

Analysis

Agency: Department of Homeland Security, National Protection and Programs Directorate, Office of Infrastructure Protection, Protective Security Coordination Division, Office for Bombing Prevention.

Title: Gratuitous Services Agreement and Volunteer Release and Hold Harmless form.

OMB Number: 1670-NEW.

Frequency: Varies.

Affected Public: Participants in OBP training, to include, but not limited to emergency response personnel, firefighters, police officers, emergency medical teams, and emergency management personnel.

Number of Respondents: 1500 respondents (estimate).

Estimated Time per Respondent: .2 hours.

Total Burden Hours: 150 annual burden hours.

Total Burden Cost (capital/startup): $0.

Total Recordkeeping Burden: $0.

Total Burden Cost (operating/maintaining): $6,831.00.

David Epperson,
Chief Information Officer, National Protection and Programs Directorate, Department of Homeland Security.

[FR Doc. 2015-20615 Filed 8-19-15; 8:45 am]

BILLING CODE 9110-9P-P